DEPARTMENT OF AGRICULTURE

Submission for OMB Review; Comment Request

August 16, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by September 23, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Commodity Offer Forms (Previously noted in the 60-day Federal Register as Web-based Supply and Chain Management System Offer Forms).

OMB Control Number: 0560-0177.

Summary of Collection: The Food for Peach Act specifically (Pub. L. 480 Title II), Section 416(b) of the Agricultural Act of 1949; Food for Progress Act of 1985; 2002 and 2008 Farm Bills authorizing the McGovern-Dole International Food for Education Program; and Commodity Credit Corporation (CCC) Charter Act, all as amended, authorize the International Procurement Division to procure, sell, and transport, as well as sample, inspect and survey, agricultural commodities at both domestic and foreign locations for use in international food aid program. Commodity vendors under contract are required to submit Advance Shipping Notifications so that receivers of these commodities within the U.S. can arrange for their timely lifting for transport overseas via ocean-going vessels. The Farm Service Agency (FSA) will collect information using some forms.

Need and Use of the Information: The information collected will enable Kansas City Commodity Office (KCCO) to evaluate offers impartially, purchase or sell commodities, and obtain services to meet domestic and export program needs. Without the information CCC could not perform the tasks required to meet the international and domestic food aid program requirements.

Description of Respondents: Business or other for-profit; not for-profit institutions.

Number of Respondents: 76.

Frequency of Responses: Recordkeeping; reporting: On occasion; quarterly; weekly; semi-annually; monthly; annually.

Total Burden Hours: 237.

Ruth Brown,
Departmental Information Collection Clearance Officer.

[FR Doc. 2013-20432 Filed 8-21-13; 8:45 am]

BILLING CODE 3410-05-P